DEPARTMENT OF LABOR

Employment and Training Administration

Agency Information Collection Activities; Comment Request; Unemployment Insurance (UI) State Quality Service Plan (SQSP) Planning and Reporting Guidelines

ACTION: Notice.

SUMMARY: The Department of Labor's (DOL) Employment and Training Administration (ETA) is soliciting comments concerning a proposed revision to the information collection request (ICR) titled, “Unemployment Insurance (UI) State Quality Service Plan (SQSP) Planning and Reporting Guidelines.” This comment request is part of continuing Departmental efforts to reduce paperwork and respondent burden in accordance with the Paperwork Reduction Act of 1995 (PRA).

DATES: Consideration will be given to all written comments received by August 4, 2023.

ADDRESSES: A copy of this ICR with applicable supporting documentation, including a description of the likely respondents, proposed frequency of response, and estimated total burden, may be obtained free by contacting Delores Ferrell by telephone at 202-693-3183 (this is not a toll-free number), TTY 1-877-889-5627 (this is not a toll-free number), or by email at Ferrell.Delores@dol.gov.

Submit written comments about, or requests for a copy of, this ICR by mail or courier to the U.S. Department of Labor, Office of Unemployment Insurance, 200 Constitution Avenue NW, Room S-4519, Washington, DC 20210; by email: Ferrell.Delores@dol.gov; or by Fax: 202-693-3975.

FOR FURTHER INFORMATION CONTACT: Delores Ferrell by telephone at 202-693-3183 (this is not a toll-free number) or by email at Ferrell.Delores@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The SQSP is an approach to the unemployment insurance performance management and planning process that allows for an exchange of information between the Federal and state partners to enhance the ability of the UI program to reflect the joint commitment to performance excellence and client-centered services. As part of UI Performs, a comprehensive performance management system implemented in 1995 for the UI program, SQSP is the principal vehicle that state UI agencies use to plan, record, and manage program improvement efforts as they strive for excellence in service. SQSP also serves as the state plan for the UI program and serves as the grant document through which states receive Federal UI administrative funding. SQSP links program performance with the budget and planning process.

The Department's information collection authority for SQSP is under Office of Management and Budget (OMB) number 1205-0132. ETA proposes to revise this information collection to improve the clarity of the documentation and instructions and update the estimated burden based on more recent operating activity. Currently, ETA is soliciting comments concerning the proposed modification to the ET Handbook No. 336, 18th Edition; Unemployment Insurance (UI) State Quality Service Plan (SQSP). ETA is providing specific guidance on the submittal of the SQSP.

The SQSP, with its State Plan Narrative, Corrective Action Plans (CAPs), and Integrity Action Plan (IAP), is the state's formal plan and schedule for improving performance. States will continue to use the State Plan Narrative to provide a general summary of the UI program in the state. The Department expects each state to address its planned actions to correct deficiencies for Secretary Standards, Core Measures, and UI programs are expected in CAPs. The Department requires each state to submit one CAP for each deficiency. Based on FY 2022 data, states submitted a total of 874 CAPs. This is an increase of 397 CAPs compared to FY 2020 data.

The Secretary of Labor is authorized to provide funds to administer the UI program and to govern the expenditures of those funds. Sections 302 and 303(a)(8) and (9), of the Social Security Act, authorize this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0132.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Extension with revisions.

Title of Collection: Unemployment Insurance (UI) State Quality Service Plan (SQSP) Planning and Reporting Guidelines.

Form: ET Handbook No. 336, 18th Edition.

OMB Control Number: 1205-0132.

Affected Public: State Workforce Agencies.

Estimated Number of Respondents: 53.

Frequency: Biennial, Annual, and Quarterly.

Total Estimated Annual Responses: 1,701.

Estimated Average Time per Response: Varies.

Estimated Total Annual Burden Hours: 4,496 hours.

Total Estimated Annual Other Cost Burden: $0.

(Authority: 44 U.S.C. 3506(c)(2)(A))

Brent Parton,
Acting Assistant Secretary for Employment and Training, Labor.

[FR Doc. 2023-11835 Filed 6-2-23; 8:45 am]

BILLING CODE 4510-FW-P